DEPARTMENT OF AGRICULTURE

Animal and Plant Health Inspection Service

9 CFR Part 77

[Docket No. 99-038-2]

Tuberculosis in Cattle, Bison, Goats, and Captive Cervids; State and Zone Designations; Correction

AGENCY: Animal and Plant Health Inspection Service, USDA.

ACTION: Proposed rule; correction.

SUMMARY: We are correcting an error in a proposed rule that would amend the bovine tuberculosis regulations. This proposed rule was published in the Federal Register on March 7, 2000 (65 FR 11912-11940, Docket No. 99-038-1).

DATES: We invite you to comment on the proposed rule (Docket No. 99-038-1), as corrected by this document. We will consider all comments that we receive by April 21, 2000.

ADDRESSES: Please send your comment and three copies to: Docket No. 99-038-1, Regulatory Analysis and Development, PPD, APHIS, Suite 3C03, 4700 River Road, Unit 118, Riverdale, MD 20737-1238.

Please state that your comment refers to Docket No. 99-038-1.

You may read any comments that we receive on Docket No. 99-038-1 in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Joseph Van Tiem, Senior Staff Veterinarian, VS, APHIS, USDA, 4700 River Road Unit 43, Riverdale, MD 20737-1231; (301) 734-7716.

SUPPLEMENTARY INFORMATION: We published in the Federal Register on March 7, 2000, (65 FR 11912-11940, Docket No. 99-038-1), a proposed rule to amend the bovine tuberculosis regulations (9 CFR part 77).

There are several errors in that document. The first is in proposed § 77.10(b), which sets forth the requirements for the interstate movement of certain cattle and bison from States and zones listed as modified accredited advanced with regard to tuberculosis. It provides that if cattle or bison to be moved interstate from a modified accredited advanced State or zone are steers or spayed heifers, or are officially identified sexually intact heifers to be moved to an approved feedlot, the animals may be moved interstate without restriction.

However, as explained in the Supplementary Information section of the proposed rule, any such animals moved interstate, if they are not individually identified by a registration name and number, would be required to be officially identified.

The other errors are in subpart C, “Captive Cervids,” in the lists of States and zones with regard to tuberculosis risk classifications for captive cervids. These classifications appear in § 77.22(a) and (b) for accredited free States and zones, § 77.24(a) and (b) for modified accredited advanced States and zones, § 77.26(a) and (b) for modified accredited States and zones, § 77.28(a) and (b) for accreditation preparatory States and zones, and § 77.30(a) and (b) for nonaccredited States and zones. As set forth in the proposed rule, all States and zones are classified as either modified accredited or accreditation preparatory, and that is not correct. As explained in the Supplementary Information section of the proposed rule, only some States and zones should be classified as modified accredited or accreditation preparatory for captive cervids. The remainder should be classified as accredited-free or modified accredited advanced.

This document corrects proposed §§ 77.10(b), 77.22(a) and (b), 77.24(a), 77.26(a) and (b), and 77.28(a) as follows so that they are consistent with the explanations in the Supplementary Information section of the proposed rule.

PART 77—[CORRECTED]

1. On page 11928, column 1, § 77.10(b) is corrected to read as follows:

§ 77.10 Interstate movement from modified accredited advanced States and zones.

* * * * *

(b) Cattle or bison may be moved interstate if they are steers or spayed heifers, or are officially identified sexually intact heifers moved to an approved feedlot. All cattle and bison so moved that are not individually identified by a registration name and number must be officially identified.

* * * * *

2. On page 11931, column 3, § 77.22(a) and (b) are corrected to read as follows:

§ 77.22 Accredited-free States or zones.

(a) The following are accredited-free States: Alaska, Colorado, Hawaii, Idaho, Indiana, Louisiana, Maine, Minnesota, Montana, Nebraska, Nevada, New Hampshire, New York, North Dakota, Oklahoma, Oregon, South Carolina, South Dakota, Texas, Utah, Vermont,Virginia, Washington, and Wyoming.

(b) The following are accredited-free zones: That part of Michigan other than the zone described in § 77.26(b).

* * * * *

3. On page 11932, column 1, § 77.24(a) is corrected to read as follows:

§ 77.24 Modified accredited advanced States or zones.

(a) The following are modified accredited advanced States: Arizona, California, Florida, Georgia, Kansas, Kentucky, Mississippi, Missouri, New Jersey, North Carolina, Pennsylvania, Tennessee, and Wisconsin.

* * * * *

4. On page 11932, column 3, § 77.26(a) and (b) are corrected to read as follows:

§ 77.26 Modified accredited States or zones.

(a) The following are modified accredited States: None.

(b) The following are modified accredited zones: A zone in Michigan delineated by starting at the juncture of State Route 55 and Interstate 75, then heading northwest and north along Interstate 75 to the Straits of Mackinac, then southeast and south along the shoreline of Michigan to the eastern terminus of State Route 55, then west along State Route 55 to Interstate 75.

* * * * *

5. On page 11933, column 2, § 77.28(a) is corrected to read as follows:

§ 77.28 Accreditation preparatory States or zones.

(a) The following are modified accredited States: Alabama, Arkansas, Connecticut, Delaware, Illinois, Iowa, Maryland, Massachusetts, New Mexico, Ohio, Puerto Rico, Rhode Island, the Virgin Islands of the United States, and West Virginia.

* * * * *

Done in Washington, DC, this 21st day of March 2000.
Bobby R. Acord,
Acting Administrator, Animal and Plant Health Inspection Service.

[FR Doc. 00-7445 Filed 3-23-00; 8:45 am]

BILLING CODE 3410-34-U